DEPARTMENT OF LABOR

Office of Disability Employment Policy

[OMB Control No. 1230-0014]

Proposed Extension of Information Collection: Retaining Employment and Talent After Injury/Illness Network (RETAIN) Demonstration Projects and Evaluation

AGENCY: Office of Disability Employment Policy, United States Department of Labor.

ACTION: Notice of information collections and request for comments.

SUMMARY: The Department of Labor (DOL) Office of Disability Employment Policy is soliciting comments regarding this ODEP-sponsored information collection for the Retaining Employment and Talent After Injury/Illness Network (RETAIN) Demonstration Projects and Evaluation. As part of its continuing effort to reduce paperwork and respondent burden, DOL conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed.

DATES: Comments pertaining to this information collection are due on or before June 13, 2025.

ADDRESSES: You may submit comments as follows. Please note that late, untimely filed comments will not be considered.

Electronic Submission: Submit electronic comments in the following way:

Federal eRulemaking Portal: https://www.regulations.gov. Follow the online instructions for submitting comments. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL, 200 Constitution Ave. NW, Room S-5315, Washington, DC 20210.

• DOL-ODEP will post your comment as well as any attachments, except for information submitted and marked as confidential, in the docket at https://www.regulations.gov.

FOR FURTHER INFORMATION CONTACT: David Rosenblum by telephone at 202-693-7840 (this is not a toll-free number) or by email at DOL_PRA_PUBLIC@dol.gov.

SUPPLEMENTARY INFORMATION:

I. Background

In FY 2018, the Department of Labor and the Social Security Administration launched a collaboration to develop and test promising stay-at-work/return-to-work (SAW/RTW) early intervention strategies and evaluate outcomes for individuals who are experiencing work disability.¹ Each year, millions of American workers leave the workforce after experiencing an injury or illness, and hundreds of thousands of these workers go on to receive state or federal disability benefits. The socio-economic impacts of these injuries and illnesses on individuals, employers, and all levels of government can be significant and long-lasting. SAW/RTW programs succeed by returning injured workers to productive work as soon as medically possible by providing interim part-time or light duty work and accommodations, as necessary.

¹ For the purposes of RETAIN, the term “work disability” is defined as an illness, injury, or medical condition that has the potential to inhibit or prevent continued employment or labor force participation, and “federal disability benefits” refers specifically to the Social Security Disability Insurance (SSDI) and Supplemental Security Income (SSI) programs. See https://www.ssa.gov/disability/ for more information on SSDI and SSI.

The RETAIN Demonstration Projects are modeled after promising programs currently operating in Washington State, including the Centers of Occupational Health and Education (COHE), the Early Return to Work (ERTW), and the Stay at Work programs. While these programs operate within the state's workers' compensation system and are available only to individuals experiencing work-related injuries or illnesses, the RETAIN Demonstration Projects provide opportunities to improve SAW/RTW outcomes for individuals with both occupational and non-occupational injuries and illnesses.

The primary goals of the RETAIN Demonstration Projects are:

1. To increase employment retention and labor force participation of individuals who acquire, and/or are at risk of developing, work disabilities; and

2. To reduce long-term work disability among project participants, including the need for federal disability benefits (i.e., Social Security Disability Insurance [SSDI] and Supplemental Security Income [SSI]).

During FY 2018, eight states received funding through cooperative agreements to create systems changes by developing and implementing partnerships and strategies to test the effects of the provision of comprehensive, coordinated health and employment-related services and supports to injured or ill workers who have acquired, or are at risk of developing, a work disability. In Phase 1, these grantees completed start-up activities and launched a small pilot. In FY 2021, five of these grantees (Kansas, Kentucky, Minnesota, Ohio, and Vermont) were competitively awarded Phase 2 funding for a performance period of four years (2021-2024), enabling them to expand and scale up their pilot to full implementation. This performance period has been extended to 2025 for all five grantees and subsequently to 2026 for four grantees, as they continue sustainability activities.

The purpose of the RETAIN employee participant information collection is to understand and assess RETAIN program start-up, pilot projects, and full implementation. Two baseline forms are required to be completed for each participant enrolling in RETAIN, whether in the treatment group or in the control group. The first form is completed by the enrollees themselves, while the second form is completed by a combination of the healthcare provider and Return-to-Work Coordinator, based on information provided by the enrollee. This information collection was approved by OMB in May 2019 with an expiration date of May 31, 2022, and it was subsequently approved by OMB on June 1, 2022 for an extension with an expiration date of June 30, 2025. An extension is requested for another year, to last through the end of Phase 2 for all grantees.

This information collection is subject to the Paperwork Reduction Act (PRA). A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6.

The DOL seeks PRA authorization for this information collection for one (1) year. OMB authorization for an Information Collection Review cannot be for more than three (3) years without renewal. The DOL notes that currently approved information collection requirements submitted to the OMB receive a month-to-month extension while they undergo review.

II. Desired Focus of Comments

DOL is soliciting comments concerning the proposed information collection related to Retaining Employment and Talent After Injury/Illness Network (RETAIN) Demonstration Projects and Evaluation. DOL is particularly interested in comments that:

• Evaluate whether the collection of information is necessary for the proper performance of the functions of the Agency, including whether the information has practical utility;

• Evaluate the accuracy of DOL's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL located at 200 Constitution Ave. NW, Room S-5315, Washington, DC 20210. Questions about the information collection requirements may be directed to the person listed in the FOR FURTHER INFORMATION section of this notice.

III. Current Actions

This information collection request concerns the Retaining Employment and Talent After Injury/Illness Network (RETAIN) Demonstration Projects and Evaluation. DOL-ODEP has included the number of respondents, responses, burden hours, and burden costs supporting this information collection request below.

Type of Review: Extension.

Agency: DOL-ODEP.

OMB Control Number: 1230-0014.

Affected Public: Individuals or Households.

Number of Respondents: 1,920.

Number of Responses: 1,920.

Annual Burden Hours: 640 hours.

Estimated Time per Response: 20 minutes.

Total Estimated Annual Other Costs Burden: $0.

Comments submitted in response to this notice will be summarized in the request for Office of Management and Budget approval of the proposed information collection request; they will become a matter of public record and will be available at https://www.reginfo.gov.

(Authority: 44 U.S.C. 3506(c)(2)(A))

Dated: March 28, 2025.
Jennifer Sheehy,
Deputy Assistant Secretary, Office of Disability Employment Policy.

[FR Doc. 2025-06262 Filed 4-11-25; 8:45 am]

BILLING CODE 4510-FK-P